DEPARTMENT OF COMMERCE

International Trade Administration

[A-570-051]

Certain Hardwood Plywood From the People's Republic of China: Preliminary Results of Antidumping Duty Administrative Review and Preliminary Determination of No Shipments; 2019

AGENCY: Enforcement and Compliance, International Trade Administration, Department of Commerce.

SUMMARY: The Department of Commerce (Commerce) preliminarily determines that 24 exporters of certain hardwood plywood products (hardwood plywood) from the People's Republic of China (China) under review had no shipments of subject merchandise during the period of review (POR) January 1, 2019 through December 31, 2019. Commerce also preliminarily determines that the 34 remaining companies subject to this review, including Lianyungang Yuantai International Trade Co., Ltd. (Yuantai), are part of the China-wide entity because they did not demonstrate eligibility for separate rates.

DATES: Applicable January 21, 2021.

FOR FURTHER INFORMATION CONTACT: Kabir Archuletta, Operations, Office V, Enforcement and Compliance, International Trade Administration, Department of Commerce, 1401 Constitution Avenue NW, Washington, DC 20230; telephone: (202) 482-2593.

SUPPLEMENTARY INFORMATION:

Background

On March 10, 2020, Commerce published in the Federal Register a notice of initiation of an administrative review of the antidumping duty (AD) order ¹ on hardwood plywood from China with respect to 58 producers/exporters.² Subsequently, we released U.S. Customs and Border Protection (CBP) data to interested parties for comment.³ We received comments from the petitioner ⁴ but no other interested party commented on the CBP data.

¹ See Certain Hardwood Plywood Products from the People's Republic of China: Amended Final Determination of Sales at Less Than Fair Value, and Antidumping Duty Order, 83 FR 504 (January 4, 2018) (Order).

² See Initiation of Antidumping and Countervailing Duty Administrative Reviews, 85 FR 13860 (March 10, 2020).

³ See Memorandum, “U.S. Customs Data for Respondent Selection,” dated March 20, 2020.

⁴ The petitioner is the Coalition for Fair Trade in Hardwood Plywood. See Petitioner's Letter, “The Petitioner's Comments on CBP Data and Respondent Selection,” dated March 27, 2020.

In April 2020, we received timely no-shipment certifications from 24 companies,⁵ and we also received a separate rate certification (SRC) from Yuantai.⁶ We did not receive a no-shipment statement, separate rate application (SRA), or SRC from any other company subject to this review. Also, in April 2020, Commerce exercised its discretion to toll administrative review deadlines by 50 days.⁷ As a result, all deadlines in this proceeding were extended by 50 days.

⁵ We received timely no shipment certifications from the following companies: (1) Anhui Hoda Wood Co., Ltd.; (2) Celtic Co., Ltd.; (3) Cosco Star International Co., Ltd.; (4) Happy Wood Industrial Group Co., Ltd.; (5) Jiaxing Hengtong Wood Co., Ltd.; (6) Linyi Chengen Import and Export Co., Ltd.; (7) Linyi Evergreen Wood Co., Ltd.; (8) Linyi Glary Plywood Co., Ltd.; (9) Linyi Huasheng Yongbin Wood Co., Ltd.; (10) Linyi Jiahe Wood Industry Co., Ltd.; (11) Linyi Sanfortune Wood Co., Ltd.; (12) Qingdao Top P&Q International Corp.; (13) Shandong Qishan International Trading Co., Ltd.; (14) Shanghai Brightwood Trading Co., Ltd.; (15) Shanghai Futuwood Trading Co., Ltd.; (16) Shanghai Luli Trading Co., Ltd.; (17) Suining Pengxiang Wood Co., Ltd.; (18) Suqian Hopeway International Trade Co., Ltd.; (19) Suzhou Oriental Dragon Import and Export Co., Ltd.; (20) Vietnam Finewood Company Limited; (21) Xuzhou Jiangheng Wood Products Co., Ltd.; (22) Xuzhou Jiangyang Wood Industries Co., Ltd.; (23) Xuzhou Timber International Trade Co., Ltd.; and (24) Zhejiang Dehua TB Import & Export Co., Ltd.

⁶ See Yuantai's Letter, “Hardwood Plywood Products from the People's Republic of China: Separate Rate Certification,” dated April 9, 2020.

⁷ See Memorandum, “Tolling of Deadlines for Antidumping and Countervailing Duty Administrative Reviews,” dated April 24, 2020.

In April and May 2020, we requested additional information from Yuantai related to its SRC,⁸ and although Yuantai timely provided some information,⁹ it later informed Commerce that it was unable to respond further because the company had ceased operations.¹⁰

⁸ See Commerce's Letters, “Administrative Review of the Antidumping Duty Order of Certain Hardwood Plywood Products from the People's Republic of China: Separate Rate Certification,” dated April 15, 2020; and “Administrative Review of the Antidumping Duty Order of Certain Hardwood Plywood Products from the People's Republic of China: Separate Rate Certification Supplemental Questionnaire,” dated May 18, 2020.

⁹ See Yuantai's Letter, “Hardwood Plywood Products from the People's Republic of China: Separate Rate Certification,” dated April 20, 2020.

¹⁰ See Yuantai's Letter, “Hardwood Plywood Products from the People's Republic of China: Letter in Lieu of 2nd Supplemental Separate Rate Certification Questionnaire Response,” dated May 26, 2020.

In July 2020, Commerce exercised its discretion to toll administrative review deadlines by an additional 60 days.¹¹ The revised deadline for the preliminary results of this review is now January 21, 2021.¹²

¹¹ See Memorandum, “Tolling of Deadlines for Antidumping and Countervailing Duty Administrative Reviews,” dated July 21, 2020. All deadlines in this proceeding have been extended by 60 days.

¹² The preliminary results deadline falls on January 20, 2021, which is a federal holiday. Commerce's practice dictates that where a deadline falls on a weekend or federal holiday, the appropriate deadline is the next business day. See Notice of Clarification: Application of “Next Business Day” Rule for Administrative Determination Deadlines Pursuant to the Tariff Act of 1930, As Amended, 70 FR 24533 (May 10, 2005).

For a complete description of the events that followed the initiation of this administrative review, see the Preliminary Decision Memorandum.¹³ A list of topics included in the Preliminary Decision Memorandum is included as Appendix III to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at http://enforcement.trade.gov/frn/. The signed and the electronic versions of the Preliminary Decision Memorandum are identical in content.

¹³ See Memorandum, “Decision Memorandum for the Preliminary Results for the 2019 Antidumping Duty Administrative Review: Certain Hardwood Plywood from the People's Republic of China,” dated concurrently with, and herby adopted by, this notice (Preliminary Decision Memorandum).

Scope of the Order

The product covered by this order is hardwood plywood from China. A full description of the scope of the order is contained in the Preliminary Decision Memorandum.¹⁴

¹⁴ Id.

Methodology

Commerce is conducting this review in accordance with section 751(a)(1)(B) of the Tariff Act of 1930, as amended (the Act), and 19 CFR 351.213.

Preliminary Determination of No Shipments

Based upon the no-shipment certifications received by Commerce, and our review of CBP data, we preliminarily find that 24 companies had no shipments during the POR. For additional information regarding this determination, see the Preliminary Decision Memorandum. Consistent with our assessment practice in non-market economy administrative reviews,¹⁵ Commerce is not rescinding this review for these 24 companies.¹⁶ Commerce intends to complete the review and issue appropriate instructions to CBP based on the final results of this review.

¹⁵ See Non-Market Economy Antidumping Proceedings: Assessment of Antidumping Duties, 76 FR 65694, 65694-95 (October 24, 2011); see also the “Assessment Rate” section, below.

¹⁶ See Appendix II.

Separate Rates

Commerce preliminarily finds that Yuantai has not established its eligibility for a separate rate. Additionally, because 33 other companies under review did not submit a no-shipment certification, SRA, or SRC, Commerce preliminarily determines that these companies have not demonstrated their eligibility for separate rates.¹⁷ For additional information, see the Preliminary Decision Memorandum.

¹⁷ See Appendix I.

China-Wide Entity

Commerce's policy regarding conditional review of the China-wide entity applies to this administrative review.¹⁸ Under this policy, the China-wide entity will not be under review unless a party specifically requests, or Commerce self-initiates, a review of the China-wide entity.¹⁹ Because no party requested a review of the China-wide entity in this review, the China-wide entity is not under review and the China-wide entity's rate (i.e., 183.36 percent) is not subject to change.²⁰ For additional information, see the Preliminary Decision Memorandum.

¹⁸ See Antidumping Proceedings: Announcement of Change in Department Practice for Respondent Selection in Antidumping Duty Proceedings and Conditional Review of the Nonmarket Economy Entity in NME Antidumping Duty Proceedings, 78 FR 65963 (November 4, 2013).

¹⁹ Id.

²⁰ See Order, 83 FR at 512.

Public Comment

In accordance with 19 CFR 351.309(c), case briefs or other written comments may be submitted to the Assistant Secretary for Enforcement and Compliance no later than 30 days after the date of publication of these preliminary results, unless the Secretary alters the time limit. Rebuttal briefs, limited to issues raised in case briefs, may be submitted no later than seven days after the deadline date for case briefs.²¹ Pursuant to 19 CFR 351.309(c)(2) and (d)(2), parties who submit case briefs or rebuttal briefs in this review are encouraged to submit with each argument: (1) A statement of the issue; (2) a brief summary of the argument; and (3) a table of authorities. Note that Commerce has temporarily modified certain of its requirements for serving documents containing business proprietary information, until further notice.²²

²¹ See 19 CFR 351.309; see also 19 CFR 351.303 (for general filing requirements).

²² See Temporary Rule Modifying AD/CVD Service Requirements Due to Covid-19, Extension of Effective Period, 85 FR 41363 (July 10, 2020).

Pursuant to 19 CFR 351.310(c), interested parties who wish to request a hearing, limited to issues raised in the case and rebuttal briefs, must submit a written request to the Assistant Secretary for Enforcement and Compliance, U.S. Department of Commerce, within 30 days after the date of publication of this notice. Requests should contain: (1) The party's name, address and telephone number; (2) the number of participants; and (3) a list of issues to be discussed. Oral presentations at the hearing will be limited to those issues raised in the briefs. If a request for a hearing is made, Commerce intends to hold the hearing at a date and time to be determined.²³

²³ See 19 CFR 351.310(d).

Assessment Rates

Upon issuance of the final results of this review, Commerce will determine, and CBP shall assess, AD duties on all appropriate entries of subject merchandise covered by this review.²⁴ We have not calculated any assessment rates in this administrative review. Based on record evidence, we have determined that 24 companies had no shipments of subject merchandise and, therefore, pursuant to Commerce's assessment practice, any suspended entries that entered under their case numbers, where available, will be liquidated at the China-wide entity rate.²⁵ For all remaining companies subject to this review, which are part of the China-wide entity, we will instruct CBP to liquidate their entries at the current rate for the China-wide entity (i.e., 183.36 percent). Commerce intends to issue assessment instructions to CBP 15 days after the publication date of the final results of this review in the Federal Register.²⁶

²⁴ See 19 CFR 351.212(b)(1).

²⁵ For a full discussion of this practice, see Non-Market Economy Antidumping Proceedings: Assessment of Antidumping Duties, 76 FR 65694 (October 24, 2011).

²⁶ Id.

Cash Deposit Requirements

The following cash deposit requirements will be effective upon publication of the final results of this administrative review for shipments of the subject merchandise from China entered, or withdrawn from warehouse, for consumption on or after the publication date of the final results of this administrative review, as provided by section 751(a)(2)(C) of the Act: (1) The cash deposit rates for the 24 companies that had no shipments during the POR will remain unchanged from the rates assigned to them in the most recently completed segment for each company; (2) for previously investigated or reviewed Chinese and non-Chinese exporters that have separate rates, the cash deposit rate will continue to be the exporter-specific rate published for the most recently completed segment of this proceeding; (3) for all Chinese exporters of subject merchandise that have not been found to be entitled to a separate rate, the cash deposit rate will be the rate for the China-wide entity (i.e., 183.36 percent); and (4) for all non-Chinese exporters of subject merchandise that have not received their own rate, the cash deposit rate will be the rate applicable to the Chinese exporter that supplied that non-Chinese exporter. These deposit requirements, when imposed, shall remain in effect until further notice.

Notification to Importers

This notice also serves as a reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification to Interested Parties

These preliminary results of administrative review are issued and published in accordance with sections 751(a)(1) and 777(i)(l) of the Act, and 19 CFR 351.213(h)(1).

Dated: January 12, 2021.
Jeffrey I. Kessler,
Assistant Secretary for Enforcement and Compliance.

Appendix I

Companies Not Eligible for a Separate Rate

1. Feixian Longteng Wood Co., Ltd.

2. Golder International Trade Co., Ltd.

3. Highland Industries-Hanlin

4. Huainan Mengping Import and Export Co., Ltd.

5. Jiangsu High Hope Arser Co., Ltd.²⁷

²⁷ Previously had a separate rate but did not file a no shipment certification or request a separate rate.

6. Jiangsu Sunwell Cabinetry Co., Ltd.

7. Jiangsu Top Point International Co., Ltd.

8. Jiaxing Gsun Imp. & Exp. Co., Ltd.

9. Lianyungang Yuantai International Trade Co., Ltd.

10. Linyi Bomei Furniture Co., Ltd.

11. Linyi City Dongfang Jinxin Economic and Trade Co., Ltd. (a/k/a Linyi City Dongfang Jinxjin Economic and Trade Co., Ltd.)

12. Linyi Dahua Wood Co., Ltd.

13. Linyi Hengsheng Wood Industry Co., Ltd.

14. Linyi Linhai Wood Co., Ltd.

15. Linyi Mingzhu Wood Co., Ltd.

16. Pingyi Jinniu Wood Co., Ltd.

17. Qingdao Good Faith Import and Export Co., Ltd.

18. SAICG International Trading Co., Ltd.

19. Shandong Dongfang Bayley Wood Co., Ltd.

20. Shandong Jinhua International Trading Co., Ltd.

21. Shandong Jinluda International Trade Co., Ltd.

22. Shandong Senmanqi Import & Export Co., Ltd.

23. Shandong Shengdi International Trading Co., Ltd.

24. Sumec International Technology Co., Ltd.

25. Suzhou Fengshuwan Import and Export Trade Co., Ltd. a/k/a Suzhou Fengshuwan I&E Trade Co., Ltd.

26. Win Faith Trading Limited

27. Xuzhou Amish Import & Export Co., Ltd.

28. Xuzhou Andefu Wood Co., Ltd.

29. Xuzhou Constant Forest Industry Co., Ltd.

30. Xuzhou DNT Commercial Co., Ltd.

31. Xuzhou Longyuan Wood Industry Co., Ltd.

32. XuZhou PinLin International Trade Co., Ltd.

33. Xuzhou Shengping Imp and Exp Co., Ltd.

34. Yishui Zelin Wood Made Co., Ltd.

Appendix II

Companies Preliminarily Found to Have No Shipments

1. Anhui Hoda Wood Co., Ltd.

2. Celtic Co., Ltd.

3. Cosco Star International Co., Ltd.

4. Happy Wood Industrial Group Co., Ltd.

5. Jiaxing Hengtong Wood Co., Ltd.

6. Linyi Chengen Import and Export Co., Ltd.

7. Linyi Evergreen Wood Co., Ltd.

8. Linyi Glary Plywood Co., Ltd.

9. Linyi Huasheng Yongbin Wood Co., Ltd.

10. Linyi Jiahe Wood Industry Co., Ltd.

11. Linyi Sanfortune Wood Co., Ltd.

12. Qingdao Top P&Q International Corp.

13. Shandong Qishan International Trading Co., Ltd.

14. Shanghai Brightwood Trading Co., Ltd.

15. Shanghai Futuwood Trading Co., Ltd.

16. Shanghai Luli Trading Co., Ltd.

17. Suining Pengxiang Wood Co., Ltd.

18. Suqian Hopeway International Trade Co., Ltd.

19. Suzhou Oriental Dragon Import and Export Co., Ltd.

20. Xuzhou Jiangheng Wood Products Co., Ltd.

21. Xuzhou Jiangyang Wood Industries Co., Ltd.

22. Xuzhou Timber International Trade Co., Ltd.

23. Vietnam Finewood Company Limited

24. Zhejiang Dehua TB Import & Export Co., Ltd.

Appendix III

List of Topics Discussed in the Preliminary Decision Memorandum

I. Summary

II. Background

III. Scope of the Order

IV. Discussion of the Methodology

V. Recommendation

[FR Doc. 2021-01165 Filed 1-19-21; 8:45 am]

BILLING CODE 3510-DS-P